DEPARTMENT OF HEALTH AND HUMAN SERVICES

Centers for Disease Control and Prevention

Disease, Disability, and Injury Prevention and Control Special Emphasis Panel (SEP): Funding Opportunity Announcement DD11-005, Initial Review

Correction: This notice was published in the Federal Register on April 11, 2011, Volume 76, Number 69, Page 19995. The time for the aforementioned meeting has been changed to the following:

Time: 11 a.m.-5 p.m.

Contact Person for More Information: Brenda Colley Gilbert, Ph.D., M.P.H., Director, Extramural Research Program Office, National Center for Chronic Disease Prevention and Health Promotion, CDC, 1600 Clifton Road, NE., Mailstop K92, Atlanta, Georgia 30333, Telephone: (770) 488-6295.

The Director, Management Analysis and Services Office, has been delegated the authority to sign Federal Register notices pertaining to announcements of meetings and other committee management activities, for both the Centers for Disease Control and Prevention and the Agency for Toxic Substances and Disease Registry.

Dated: April 26, 2011.
Elaine L. Baker,
Director, Management Analysis and Services Office, Centers for Disease Control and Prevention.

[FR Doc. 2011-10546 Filed 4-29-11; 8:45 am]

BILLING CODE 4163-18-P